DEPARTMENT OF EDUCATION

[CFDA No. 84.215W]

Dropout Prevention Demonstration Program; Notice Inviting Applications for New Awards for Fiscal Year (FY) 2001

Note to Applicants: This notice is a complete application package. Together with the statute authorizing these grants and the Education Department General Administrative Regulations (EDGAR), this notice contains all of the information, application forms, and instructions needed to apply for a grant under this competition. These grants are funded under Title X, Part A of the Elementary and Secondary Education Act of 1965, as amended (20 U.S.C. 8001 et seq.).

Purpose of Program: To strengthen and expand dropout prevention demonstration projects that combine, in a coherent fashion, strategies that have been demonstrated to be effective in (1) assisting students at risk of dropping out to remain in and graduate from high school, and (2) raising standards and expectations for these students.

Eligible Applicants: State educational agencies (SEAs) and local educational agencies (LEAs).

Deadline for Transmittal of Applications: July 23, 2001.

E-Mail Notification of Intent To Apply for Funding: The Department will be able to develop a more efficient process for reviewing grant applications if it has a better understanding of the number of entities that intend to apply for funding under this competition. Therefore, the Secretary strongly encourages each potential applicant to send the Department a short e-mail indicating its intent to submit an application for funding. The e-mail should only note the applicant's intent to submit the application, and should not include information regarding the proposed application. The Secretary requests that this e-mail notification be sent no later than June 21, 2001. The e-mail notification should be sent to dropoutprevention@ed.gov. Applicants that fail to provide this e-mail notification may still apply for funding.

Deadline for Intergovernmental Review: September 19, 2001.

Estimated Available Funds: $5,000,000.

Estimated Range of Awards: $200,000-$500,000.

Maximum Award Amount: The total amount of funding that an SEA or LEA may receive under this competition is $500,000.

Estimated Number of Awards: 10 to 15.

Project Period: 12 months.

Page Limits: Applicants are strongly encouraged to limit the application narrative to the equivalent of not more than 30 double-spaced pages. Information concerning the standards for page size and text is found in the Instructions for the Application Narrative in the Appendix to this notice.

Applicable Regulations: The Education Department General Administrative Regulations (EDGAR) in 34 CFR parts 75, 77, 79, 80, 81, 82, 85, 86, 97, 98, and 99.

Supplementary Information:

Many of our communities, particularly those with substantial numbers of Hispanic, Native American, and African American students, are plagued by large numbers of students dropping out of high school. Although there is no one reason why students drop out, there are two strong predictors that can help educators identify the students most at risk of dropping out: poor academic performance and poverty. According to the National Center for Education Statistics' (NCES) annual dropout report, the single strongest school-related dropout predictor is poor academic performance; students who are performing below grade level or who repeat one or more grades are much more likely to drop out than are other students. Additionally, studies show that children from families living in poverty are much more likely to drop out of school than are children from families that are not living in poverty.

Students are more likely to drop out of school during critical transition points, particularly as they are transitioning from middle to high school. The beginning of high school can be a challenging time for students, especially for those who are performing below grade level. High school puts greater academic demands on students and can make school extremely difficult for students that are already academically behind. Therefore, students at risk of dropping out should be identified as early as possible to ensure a greater chance of high school completion. Studies show that intensive dropout prevention strategies targeted at the middle school level with continued support throughout the high school years can be particularly effective in preventing students from dropping out of high school.

The dropout problem is a complex issue that must be addressed through an array of strategies that are both targeted and demonstrated to be effective. States and districts should seek to understand why students decide to leave school and what happens to them after they drop out. The Dropout Prevention Demonstration Program will help communities to build upon, strengthen, or replicate prevention strategies, and to combine them in a comprehensive program that will address the needs of the targeted population.

Description of Program

The Dropout Prevention Demonstration Program is funded under Section 10101 of Title X of the Elementary and Secondary Education Act. The goal of the program is to strengthen and expand projects that utilize strategies demonstrated to be effective for ensuring that students at-risk of dropping out remain in and graduate from high school. The strategies should be combined in a coherent plan so that the needs of the targeted population are effectively addressed. Such strategies should include, but are not limited to:

(1) Accelerated learning strategies for improved academic performance;

(2) Systematic monitoring of attendance;

(3) Family outreach;

(4) Counseling services;

(5) Career and higher education awareness and preparation;

(6) Social support services;

(7) Small schools;

(8) Linkages between feeder elementary, middle, and high schools that serve the same children;

(9) Involvement of business and community groups;

(10) Coordination of project activities with those supported by other Federal, State, and local programs; and

(11) On-going evaluation, data collection, and dropout tracking as a means to increase the quality of services offered to students.

Reporting Requirements and Expected Outcomes

Successful applicants will be required to submit a final performance report and a copy of the project's final evaluation no more than 60 days after the end of the project period. The final evaluation should include baseline data that provides an overview of the dropout conditions that existed at the district prior to the implementation of the project, including specific data on the student population served by the project. It should also describe the quality and nature of the project's implementation, especially as it relates to improving the conditions for dropout prevention within a district and any available outcome data (including achievement data and progress on other school-related indicators).

Waiver of Proposed Rulemaking

In accordance with the Administrative Procedure Act (5 U.S.C. 553), it is the practice of the Secretary to offer interested parties the opportunity to comment on proposed rules. Ordinarily, this practice would have applied to the priorities in this notice. Section 437(d)(1) of the General Education Provisions Act (GEPA), however, exempts rules that apply to the first competition under a new or substantially revised program from this requirement. This competition is the first held under this program. To ensure timely awards, in accordance with section 437(d)(1) of GEPA, the Secretary has decided to forego public comments with respect to the absolute priorities in this notice. These priorities will apply to the FY 2001 grant competition only.

Absolute Priorities

The following absolute priorities apply to all applicants seeking funding under this competition. An applicant must meet these priorities in order to be eligible for funding.

(1) Dropout rate priority

(a) If an SEA is the applicant, the SEA must propose to assist one or more LEAs, each of which must have a high school dropout rate of at least 10 percent.

(b) If an LEA is the applicant, the LEA must have a high school dropout rate of at least 10 percent.

(c) If an LEA applies in consortium with other LEAs, each LEA must have a high school dropout rate of at least 10 percent.

(d) If an applicant LEA does not serve high school students, the high school dropout rate of the LEA in which a plurality of the applicant's students attend high school must be at least 10 percent.

(e) The high school dropout rate(s) of the LEA(s) must be included as part of the application.

(2) Schools and services priority

(a) The applicant must identify the specific school(s) that will participate in the project and include an assurance from officials at those schools indicating a commitment to participate in the project.

(b) Project services must focus on assisting children in grades 6 through 9.

(3) Collaboration priority

Each applicant must propose to work in collaboration with entities such as institutions of higher education or other public and private agencies, organizations, or institutions.

Definitions: The following definitions apply for the purposes of this program—

A “high school dropout” means a student in grade 9-12 who—

(i) Was enrolled in the district at some time during the 1999-2000 school year;

(ii) Was not enrolled at the beginning of the 2000-2001 school year;

(iii) Has not graduated or completed a program of studies by the maximum age established by a State;

(iv) Has not transferred to another public school district or to a nonpublic school or to a State-approved educational program; and

(v) Has not left school because of death, illness, or a school-approved absence.

“High school dropout rate” means the number of high school dropouts (as defined above) divided by the total number of students enrolled in grades 9-12 at the beginning of the 1999-2000 school year.

Selection Criteria

The maximum score for the selection criteria is 100 points. The maximum score for each criterion is indicated in parenthesis. Within each criterion, the Secretary evaluates each factor equally.

In all instances where the word “project” appears in the selection criteria, reference should be made to the Dropout Prevention Demonstration Program.

The Secretary will use the following selection criteria and factors in evaluating applications for grants:

(a) Need for project. (10 points) In determining the need for the proposed project, the Secretary considers the following factors:

(1) The magnitude or severity of the problem to be addressed by the proposed project.

(2) The magnitude of the need for the services to be provided or the activities to be carried out by the proposed project.

(b) Significance. (20 points) In determining the significance of the proposed project, the Secretary considers the following factors:

(1) The potential contribution of the proposed project to increase knowledge or understanding of educational problems, issues, or effective strategies related to dropout prevention.

(2) The potential replicability of the proposed project or strategies, including, as appropriate, the potential for implementation in a variety of settings.

(c) Quality of design. (40 points) In determining the quality of the project design, the Secretary considers the following factors:

(1) The extent to which the goals, objectives, and outcomes to be achieved by the proposed project are clearly specified and measurable.

(2) The extent to which the applicant proposes to strengthen and expand a dropout prevention project that utilizes strategies that have been demonstrated to be effective in addressing the needs of the target population.

(3) The extent to which the proposed dropout prevention strategies will be combined in a coherent fashion and coordinated with other services and programs that are provided to the target population.

(4) The likelihood that the services to be provided by the proposed project will improve the academic achievement of the targeted population and lead to decreased dropout rates for these students.

(d) Adequacy of resources. (10 points) In determining the adequacy of resources for the proposed project, the Secretary considers the following factors:

(1) The extent to which project funds will be coordinated with State, local, and other Federal funds as appropriate, such as Title I, Comprehensive School Reform Demonstration Program, GEAR UP, Smaller Learning Communities, and 21st Century Community Learning Center funds.

(2) The extent to which the costs are reasonable in relation to the objectives, design, and the number of students to be served.

(e) Quality of the project evaluation. (20 points) In determining the quality of the evaluation to be conducted of the proposed project, the Secretary considers the following factors:

(1) The extent to which the methods of evaluation are thorough, feasible, and appropriate to the goals, objectives, and outcomes of the proposed project.

(2) The extent to which the methods of evaluation include the use of objective performance measures that are clearly related to the intended outcomes of the project and will produce quantitative and qualitative data to the extent possible.

(3) The extent to which the evaluation will provide guidance about effective strategies suitable for replication in other settings.

Intergovernmental Review of Federal Programs

This program is subject to the requirements of Executive Order 12372 (Intergovernmental Review of Federal Programs) and the regulations in 34 CFR part 79.

The objective of the Executive order is to foster an intergovernmental partnership and to strengthen federalism by relying on State and local processes for State and local government coordination and review of proposed Federal financial assistance.

Applicants must contact the appropriate State Single Point of Contact to find out about, and to comply with, the State's process under Executive order 12372.

If you want to know the name and address of any State Single Point of Contact (SPOC) you may view the latest SPOC list on the OMB Web site at the following address: http://www.whitehouse.gov/omb/grants.

In States that have not established a process or chosen a program for review, State, areawide, regional, and local entities may submit comments directly to the Department.

Any State Process Recommendation and other comments submitted by a State Single Point of Contact and any comments from State, areawide, regional, and local entities must be mailed or hand-delivered by the date indicated in this notice to the following address: The Secretary, E.O. 12372-CFDA #84.215W, U.S. Department of Education, Room 7E200, 400 Maryland Avenue, SW., Washington, DC 20202-0125.

Proof of mailing will be determined on the same basis as applications (see 34 CFR 75.102). Recommendations or comments may be hand-delivered until 4:30 p.m. (EST) on the date indicated in this notice.

Please note that the above address is not the same address as the one to which the applicant submits its completed application. Do not send applications to the above address.

Instructions for Transmittal of Applications

(A) If You Submit Your Application Electronically: The U.S. Department of Education is expanding its pilot project of electronic submission of applications to include certain formula and discretionary grant programs. The Dropout Prevention Demonstration Program (CFDA #84.215W) is one of the programs included in the pilot project. If you are an applicant under the Dropout Prevention Demonstration Program, you may submit your application to us in either electronic or paper format.

If you chose to submit your application electronically, you must submit it through the Internet using the software provided on the e-Grants Web site (http://e-grants.ed.gov) by 4:30 p.m. (EST) on the deadline date.

The regular hours of operation of the e-Grants Web site are 6 a.m. until 12 midnight (EST) on Monday, Tuesday, Thursday, and Friday, and 6 a.m. until 7 p.m. on Wednesday and Saturday. The system is unavailable on the second Saturday of every month, Sundays, and Federal holidays.

The pilot project involves the use of the Electronic Grant Application System (e-APPLICATION, formerly e-GAPS) portion of the Grant Administration and Payment System (GAPS). We request your participation in this pilot project. We shall continue to evaluate its success and solicit suggestions for improvement.

If you participate in this e-APPLICATION pilot, please note the following:

• Your participation is voluntary.

• You will not receive any additional point value or penalty, because you submit a grant application in electronic or paper format.

• You can submit all documents electronically, including the Application for Federal Assistance (ED 424), Budget Information—Non-Construction Programs (ED 524), and all necessary assurances and certifications.

• Fax a signed copy of the Application for Federal Assistance (ED 424) after following these steps:

1. Print ED 424 from the e-APPLICATION system.

2. Make sure that your agency's Authorized Representative signs this form.

3. Before faxing this form, submit your electronic application via the e-APPLICATION system. You will receive an automatic acknowledgement, which will include a PR/Award number (an identifying number unique to your application).

4. Place the PR/Award number in the upper right hand corner of ED 424.

5. Fax ED 424 to the Application Control Center within three working days of submitting your electronic application. We will indicate a fax number in e-APPLICATION at the time of your submission.

• We may request that you give us original signatures on all other forms at a later date.

You may access the electronic grant application for the Dropout Prevention Demonstration Program at: http://e-grants.ed.gov.

We have included below additional information about the e-APPLICATION pilot project (see Parity Guidelines between Paper and Electronic Applications below).

(B) If You Send Your Application by Mail: You must mail the original and two copies of the application on or before the deadline date to: U.S. Department of Education, Application Control Center, Attention: CFDA #84.215W, Washington, DC 20202-4725.

You must show one of the following as proof of mailing:

(1) A legibly dated U.S. Postal Service postmark.

(2) A legible mail receipt with the date of mailing stamped by the U.S. Postal Service.

(3) A dated shipping label, invoice, or receipt from a commercial carrier.

(4) Any other proof of mailing acceptable to the Secretary.

If you mail an application through the U.S. Postal Service, we do not accept either of the following as proof of mailing:

(1) A private metered postmark.

(2) A mail receipt that is not dated by the U.S. Postal Service.

(C) If You Deliver Your Application by Hand: You or your courier must hand deliver the original and two copies of the application by 4:30 p.m. (EST) on or before the deadline date to: U.S. Department of Education, Application Control Center, Attention: CFDA #84.215W, Room 3633, Regional Office Building 3, 7th and D Streets, SW., Washington, DC 20202.

The Application Control Center accepts application deliveries daily between 8 a.m. and 4:30 p.m. (EST), except Saturdays, Sundays, and Federal holidays. The Center accepts application deliveries through the D Street entrance only. A person delivering an application must show identification to enter the building.

Notes for all Applicants Regarding Transmittal of Applications

(1) If you submit your application by mail, note that the U.S. Postal Service does not uniformly provide a dated postmark. Before relying on this method, you should check with your local post office.

(2) If you send your application by mail or deliver it by hand or by a courier service, the Application Control Center will mail a Grant Application Receipt Acknowledgment to you. If you do not receive the notification of application receipt within 15 days from the date of mailing the application, you should call the U.S. Department of Education Application Control Center at (202) 708-9493.

(3) If you send your application by mail or deliver it by hand or by a courier service, you must indicate on the envelope and—if not provided by the Department—in Item 3 of the Application for Federal Education Assistance (ED 424; revised November 12, 1999) the CFDA number—and suffix letter, if any—of the competition under which you are submitting your application.

(4) If you submit your application through the Internet via the e-Grants Web site, you will receive an automatic acknowledgment when we receive your application.

Parity Guidelines Between Paper and Electronic Applications

Users of e-APPLICATION, a data driven system, will be entering data on-line while completing their applications. This will be more interactive than just e-mailing a soft copy of a grant application to us. If you participate in this voluntary pilot project by submitting an application electronically, the data you enter on-line will go into a database and ultimately will be accessible in electronic form to our reviewers.

This pilot project is another step in the Department's transition to an electronic grant award process. In addition to e-APPLICATION, the Department is conducting a limited pilot of electronic peer review (e-READER) and electronic annual performance reporting (e-REPORTS).

To help ensure parity between electronic and paper copies of grant applications, we are asking each applicant that submits a paper application to adhere to the following guidelines:

• Submit your application on 8½″ by 11″ paper.

• Leave a 1-inch margin on all sides.

• Use consistent font throughout your document. You may also use boldface type, underlining, and italics. However, please do not use colored text.

• Please use black and white, also, for illustrations, including charts, tables, graphs and pictures.

• For the narrative component, your application should consist of the number and text of each selection criterion followed by the narrative. The text of the selection criterion, if included, does not count against any page limitation.

• Place a page number at the bottom right of each page beginning with 1; and number your pages consecutively throughout your document.

Application Instructions and Forms

The appendix to this notice contains all required forms and instructions, including instructions for preparing the application narrative, a statement regarding estimated public reporting burden, a notice to applicants regarding compliance with section 427 of the General Education Provisions Act (GEPA), various assurances and certifications, a list of relevant definitions from the authorizing statute and EDGAR, and a checklist for applicants.

In applying for an award under this competition, you must organize your application in the following order and include the following four parts. The parts and additional materials are as follows:

Part I: Application for Federal Assistance (ED 424, Exp. 06/30/2001) and instructions.

Part II: Budget Information-Non-Construction Programs (ED Form No. 524) and instructions.

Part III: Application Narrative.

Part IV: Assurances and Certifications:

a. Assurances—Non-Construction Programs (Standard Form 424B).

b. Certifications Regarding Lobbying; Debarment, Suspension, and Other Responsibility Matters; and Drug-Free Workplace Requirements (ED 80-0013) and instructions.

c. Certifications regarding Debarment, Suspension, Ineligibility and Voluntary Exclusion—Lower Tier Covered Transactions (ED 80-0014, 9/90) and instructions.

Note: ED Form 80-0014 is intended for the use of grantees and should not be transmitted to the Department.

d. Disclosure of Lobbying Activities (Standard Form LLL) (if applicable) and instructions.

An applicant may submit information on photostatic copies of the application, budget forms, assurances, and certifications as printed in this notice in the Federal Register. For applicants that do not submit electronically, the application form, assurances, and certifications must each have an original signature. These applicants are required to submit ONE original signed application, including ink signatures on all forms and assurances, and TWO copies of the application, one bound and one unbound copy suitable for photocopying. Please mark each application as “original” or “copy.” To aid with the review of applications, the Department encourages applicants to submit two additional paper copies of the application. The Department will not penalize applicants who do not provide additional copies. No grant may be awarded unless a completed application form, including the signed assurances and certifications, has been received. (For applicants that submit electronically, see separate instructions under “Instructions For Transmittal of Applications” above).

FOR FURTHER INFORMATION CONTACT: Christine Jackson, Dropout Prevention Demonstration Program, Academic Improvement and Demonstration Programs, Office of Elementary and Secondary Education, U.S. Department of Education, 400 Maryland Avenue, SW., Room 2W104, FOB-6, Washington, DC 20202-6254. Telephone: (202) 260-2516. e-mail: christine.jackson@ed.gov. Individuals who use a telecommunications device for the deaf (TDD) may call the Federal Information Relay Service (FIRS) at 1-888-877-8339.

Individuals with disabilities may obtain this notice in an alternative format (e.g., Braille, large print, audiotape, or computer diskette) on request to the contact person listed in the preceding paragraph. Please note, however, that the Department is not able to reproduce in an alternative format the standard forms included in the notice.

Electronic Access to This Document

You may view this document, as well as all other Department of Education documents published in the Federal Register, in text or Adobe Portable Document Format (PDF) on the Internet at the following site: www.ed.gov/legislation/FedRegister.

To use PDF you must have the Adobe Acrobat Reader, which is available free at the previous sites. If you have questions about using the PDF, call the U.S. Government Printing Office (GPO) at (202) 512-1530 or (toll free, at 1-888-293-6498), or in the Washington, DC area at (202) 512-1530.

Note: The official version of this document is the document published in the Federal Register. Free Internet access to the official edition of the Federal Register and the Code of Federal Regulations is available on GPO Access at: http://www.access.gpo.gov/nara/index.html.

Program Authority: 20 U.S.C. 8001 et seq.

Dated: May 16, 2001.
Thomas M. Corwin,
Acting Deputy Assistant Secretary for Elementary and Secondary Education.

APPENDIX

Instructions for the Application Narrative

The narrative is the section of the application where the selection criteria used by reviewers in evaluating the application are addressed. The narrative must encompass each function or activity for which funds are being requested. Before preparing the application narrative, an applicant should read carefully the description of the program and the selection criteria the Secretary uses to evaluate applications.

Applicants should note that there is a 30-page suggested page limit for the application narrative. The following standards apply: (1) A “page” is 8.5″ × 11″ (one side only) with one-inch margins (top, bottom, and sides). (2) All text in the application narrative must be double-spaced (no more than three lines per vertical inch). If using a proportional computer font, use no smaller than a 12-point font, and an average character density no greater than 18 characters per inch. If using a nonproportional font or a typewriter, do not use more than 12 characters to the inch.

The suggested page limit does not apply to the cover sheet, the one-page abstract, budget section, appendices, and forms and assurances. However, all of the application narrative must be included in the narrative section.

1. Begin with a one-page Abstract summarizing the proposed Dropout Prevention Demonstration project, including a short description of the population to be served by the project.

2. Include a table of contents listing the parts of the narrative in the order of the selection criteria and the page numbers where the parts of the narrative are found. Be sure to number the pages.

3. Describe how the applicant meets the absolute priorities.

4. Describe fully the proposed project in light of the selection criteria in the order in which the criteria are listed in the application package. Do not simply paraphrase the criteria.

5. Provide the following in response to the attached GEPA Sec. 427 “Notice to all Applicants”: (1) a reference to the portion of the application in which information appears as to how the applicant is addressing steps to promote equitable access and participation, or (2) a separate statement that contains that information.

6. When applying for funds as a consortium, individual eligible applicants must enter into an agreement signed by all members. The consortium's agreement must detail the activities each member of the consortium plans to perform, and must bind each member to every statement and assurance made in the consortium's application. The designated applicant must submit the consortium's agreement with its application.

7. Applicants may include supporting documentation as appendices to the narrative. This material should be concise and pertinent to the competition. Note that the Secretary considers only information contained in the application in ranking applications for funding consideration. Letters of support sent separately from the formal application package are not considered in the review by the technical review panels. (34 CFR 75.217)

8. Attach copies of all required assurances and forms.

Estimated Public Reporting Burden

According to the Paperwork Reduction Act of 1995, no persons are required to respond to a collection of information unless it displays a valid OMB Control Number. The valid OMB control number for this information collection is 1810-0637. (Expiration Date: 5/31/2004). The time required to complete this information collection is estimated to average 30 hours per response, including the time to review instructions, search existing data resources, gather the data needed, and complete and review the information collection.

If you have any comments concerning the accuracy of the time estimate or suggestions for improving this form, please write to: Christine Jackson, Dropout Prevention Demonstration Program, U.S. Department of Education, 400 Maryland Avenue, SW., Room 2W104, FOB-6, Washington, DC 20202-6254.

If you have comments or concerns regarding the status of your individual submission of this form, write directly to: Christine Jackson, Dropout Prevention Demonstration Program, U.S. Department of Education, 400 Maryland Avenue, SW., Room 2W104, FOB-6, Washington, DC 20202-6254.

Checklist for Applicants

The following forms and other items must be included in the application in the order listed below:

1. Application for Federal Assistance (ED 424).

2. Budget Information—Non-Construction Programs ED Form No. 524) and budget narrative.

3. Application Narrative, including information that addresses section 427 of the General Education Provisions Act (see the section “NOTICE TO ALL APPLICANTS”), and relevant appendices.

4. Applicable LEA high school dropout rates.

5. List of participating school(s) and assurances from appropriate school officials.

6. List of entity or entities with which the applicant will collaborate.

7. LEA consortium agreement, if applicable.

8. Assurances—Non-Construction Programs (SF 424B).

9. Certifications Regarding Lobbying; Debarment, Suspension, and Other Responsibility Matters; and Drug-Free Workplace Requirements (ED 80-0013).

10. Disclosure of Lobbying Activities (Standard Form LLL).

BILLING CODE 4000-01-P

[FR Doc. 01-12761 Filed 5-21-01; 8:45 am]

BILLING CODE 4000-01-C